SMALL BUSINESS ADMINISTRATION

[Disaster Declaration #17667 and #17668; Florida Disaster Number FL-00180]

Presidential Declaration Amendment of a Major Disaster for Public Assistance Only for the State of Florida

AGENCY: U.S. Small Business Administration.

ACTION: Amendment 2.

SUMMARY: This is an amendment of the Presidential declaration of a major disaster for Public Assistance Only for the State of Florida (FEMA-4673-DR), dated 10/03/2022.

Incident: Hurricane Ian.

Incident Period: 09/23/2022 and continuing.

DATES: Issued on 10/10/2022.

Physical Loan Application Deadline Date: 12/02/2022.

Economic Injury (EIDL) Loan Application Deadline Date: 07/03/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of FLORIDA, dated 10/03/2022, is hereby amended to include the following areas as adversely affected by the disaster.

Primary Counties: Brevard, Orange, Osceola.

All other information in the original declaration remains unchanged.

(Catalog of Federal Domestic Assistance Number 59008)

Rafaela Monchek,
Acting Associate Administrator for Disaster Assistance.

[FR Doc. 2022-22552 Filed 10-17-22; 8:45 am]

BILLING CODE 8026-09-P